DEPARTMENT OF COMMERCE

Foreign-Trade Zones Board

[S-119-2014]

Approval of Subzone Status; Kinder Morgan Operating L.P. “C”; Hawesville, Kentucky

On September 10, 2014, the Executive Secretary of the Foreign-Trade Zones (FTZ) Board docketed an application submitted by the Louisville & Jefferson County Riverport Authority, grantee of FTZ 29, requesting subzone status subject to the existing activation limit of FTZ 29, on behalf of Kinder Morgan Operating L.P. “C”, in Hawesville, Kentucky.

The application was processed in accordance with the FTZ Act and Regulations, including notice in the Federal Register inviting public comment (79 FR 56058, 9-18-2014). The FTZ staff examiner reviewed the application and determined that it meets the criteria for approval. Pursuant to the authority delegated to the FTZ Board Executive Secretary (15 CFR Sec. 400.36(f)), the application to establish Subzone 29M is approved, subject to the FTZ Act and the Board's regulations, including Section 400.13, and further subject to FTZ 29's 2,000-acre activation limit.

Dated: November 7, 2014.
Elizabeth Whiteman,
Acting Executive Secretary.

[FR Doc. 2014-26890 Filed 11-12-14; 8:45 am]

BILLING CODE 3510-DS-P